DEPARTMENT OF THE INTERIOR

Minerals Management Service

RIN 1010-AB57

Major Portion Prices and Due Dates for Additional Royalty Payments on Indian Gas Production in Designated Areas Not Associated With an Index Zone

AGENCY: Minerals Management Service (MMS), Interior.

ACTION: Notice of Major Portion Prices.

SUMMARY: Final regulations for valuing gas produced from Indian leases, published on August 10, 1999, require MMS to determine major portion values and notify industry by publishing the values in the Federal Register regulations also require MMS to publish a due date for industry to pay additional royalty based on the major portion value. This notice provides the major portion values and due dates for May and June 2000 production months.

EFFECTIVE DATE: January 1, 2000.

ADDRESSES: See FOR FURTHER INFORMATION CONTACT section below.

FOR FURTHER INFORMATION CONTACT: John Barder, Indian Oil and Gas Compliance Asset Management, MMS; telephone, (303) 275-7234; FAX, (303) 275-7470; E-mail, John.Barder@mms.gov; mailing address, Minerals Management Service, Minerals Revenue Management, Indian Oil and Gas Compliance Asset Management, P.O. Box 25165, MS 396G3, Denver, Colorado 80225-0165.

SUPPLEMENTARY INFORMATION: On August 10, 1999, MMS published a final rule titled “Amendments to Gas Valuation Regulations for Indian Leases,” (64 FR 43506) with an effective date of January 1, 2000. The gas regulations apply to all gas production from Indian (tribal or allotted) oil and gas leases (except leases on the Osage Indian Reservation).

The rule requires that MMS publish major portion prices for each designated area not associated with an index zone for each production month beginning January 2000 along with a due date for additional royalty payments. See 30 CFR 206.174(a)(4)(ii)(64 FR 43520, August 10, 1999). If additional royalties are due based on a published major portion price, the lessee must submit an amended Form MMS-2014, Report of Sales and Royalty Remittance, to MMS by the due date. If additional royalties are not paid by the due date, late payment interest under 30 CFR 218.54 (1999) will accrue from the due date until payment is made and an amended Form MMS-2014 is received. The table below lists the major portion prices for all designated areas not associated with an Index Zone and the due date for payment of additional royalties.

Gas Major Portion Prices and Due Dates for Designated Areas Not Associated With an Index Zone
MMS-Designated areas | May 2000 | June 2000 | Due date
Alabama-Coushatta | $3.13/MMBtu | $4.52/MMBtu | 01/02/2001
Blackfeet Reservation | 2.29/MMBtu | 2.79/MMBtu | 01/02/2001
Fort Belknap | 3.92/MMBtu | 4.14/MMBtu | 01/02/2001
Fort Berthold | 1.25/MMBtu | 2.03/MMBtu | 01/02/2001
Fort Peck Reservation | 1.95/MMBtu | 2.72/MMBtu | 01/02/2001
Navajo Allotted Leases in the Navajo Reservation | 2.78/MMBtu | 3.87/MMBtu | 01/02/2001
Rocky Boys Reservation | 2.04/MMBtu | 3.09/MMBtu | 01/02/2001
Turtle Mountain Reservation | 1.18/MMBtu | 1.18/MMBtu | 01/02/2001
Ute Allotted Leases in the Uintah and Ouray Reservation | 2.80/MMBtu | 3.76/MMBtu | 01/02/2001
Ute Tribal Leases in the Uintah and Ouray Reservation | 2.80/MMBtu | 3.76/MMBtu | 01/02/2001

For information on how to report additional royalties due to major portion prices, please refer to our Dear Payor letter dated December 1, 1999.

Dated: November 15, 2000.
Lucy Querques Denett,
Associate Director for Minerals Revenue Management.

[FR Doc. 00-29829 Filed 11-20-00; 8:45 am]

BILLING CODE 4310-MR-P